DEPARTMENT OF TRANSPORTATION

Federal Aviation Administration

Notice of Office Relocation

AGENCY: Federal Aviation Administration (FAA), DOT.

ACTION: Notice of new office address and telephone number.

SUMMARY: Effective as of November 18, 2002, the FAA Office of Dispute Resolution for Acquisition relocated to a new address different from the one listed in its Procedural Regulations, 14 CFR part 17. The new address, telephone and facsimile numbers are as follows: 800 Independence Avenue, SW., Room 323, Washington, DC 20591, Telephone (202) 267-3290, Facsimile (202) 267-3720.

FOR FURTHER INFORMATION CONTACT: Marie A. Collins, Dispute Resolution Officer, FAA Office of Dispute Resolution for Acquisition, AGC-70, Room 323, 800 Independence Avenue, SW., Washington, DC 20591, telephone number (202) 267-3290, facsimile (202) 267-3720.

Issued in Washington, DC, on November 25, 2002.
Anthony N. Palladino,
Associate Chief Counsel and Director, Office of Dispute Resolution for Acquisition.

[FR Doc. 02-30335 Filed 11-29-02; 8:45 am]

BILLING CODE 4910-13-M